DEPARTMENT OF DEFENSE

Department of the Navy

Notice of Availability of Record of Decision for Introduction of the P-8A Multi-Mission Maritime Aircraft Into the U.S. Navy Fleet in Florida, Washington, and Hawaii

AGENCY: Department of the Navy, DoD.

ACTION: Notice.

SUMMARY: The Department of the Navy (DoN), after carefully weighing the purpose and need for the proposed action, the operational and readiness requirements, the manpower requirements and costs, and the potential environmental consequences of effects of the proposed action announces its decision to support and conduct the homebasing of P-8A squadrons as identified in Alternative 1 in the Final Supplemental Environmental Impact Statement (SEIS). Alternative 1 provides for the homebasing of six fleet squadrons and the Fleet Replacement Squadron at Naval Air Station (NAS) Jacksonville, Florida, and six fleet squadrons at NAS Whidbey Island, Washington. This alternative also includes a permanent rotating squadron detachment at Marine Corps Base Hawaii Kaneohe Bay, Hawaii, with periodic squadron detachments to Naval Base Coronado, California.

SUPPLEMENTARY INFORMATION: The complete text of the Record of Decision (ROD) is available on the project Web site at http://www.mmaseis.com, along with the Final SEIS, dated April 2014, and supporting documents. Single copies of the ROD are available upon written request by contacting: P-8A SEIS Project Manager, Naval Facilities Engineering Command Atlantic/EV21CZ, 6506 Hampton Boulevard, Norfolk, VA 23508.

Dated: June 4, 2014.
P.A. Richelmi,
Lieutenant, Office of the Judge Advocate General, U.S. Navy, Alternate Federal Register Liaison Officer.

[FR Doc. 2014-13576 Filed 6-10-14; 8:45 am]

BILLING CODE 3810-FF-P